DEPARTMENT OF THE INTERIOR

Bureau of Land Management

[ID-933-4310-ET; GPO-04-0002; IDI-34424]

Notice of Public Meetings for a Caribou-Targhee National Forest Proposed Withdrawal; ID

AGENCY: Bureau of Land Management, Interior.

ACTION: Notice.

SUMMARY: This notice announces the time and place for three public meetings to be held in conjunction with the Caribou-Targhee National Forest's proposed withdrawal of 7,131,56 acres to protect and preserve the Yellowstone Cutthroat trout and the area's historic mining features.

DATES: Public meetings will be held on Tuesday, April 27, 2004 in Afton, Wyoming at the Grays River Ranger District Office located at 125 Washington Street; Wednesday, April 28, 2004 at the Soda Springs Ranger District Office conference room, located at 410 East Hooper Avenue, Soda Springs, Idaho; and Thursday, April 29, 2004 in the Caribou-Targhee National Forest Supervisor's Office conference room, 1405 Hillipark Drive, Idaho Falls, Idaho. All three meetings will be held from 6 p.m. to 9 p.m. mountain standard time.

ADDRESSES: All persons who wish to submit comments in connection with the proposed withdrawal should do so in writing and send them to the Idaho State Director, BLM, Idaho State Office, 1387 S. Vinnell Way, Boise, Idaho 83709.

FOR FURTHER INFORMATION CONTACT: Jackie Simmons, BLM, Idaho State Office, 1387 S. Vinnell Way, Boise, Idaho 83709, 208-373-3867, or Steve Robison, Caribou-Targhee National Forest, 1405 Hollipark Drive, Idaho Falls, Idaho 83401, 208-236-7573.

SUPPLEMENTARY INFORMATION: The Notice of Proposed Withdrawal was published in the Federal Register on May 23, 2003, (68 FR 28251-28252). Notice is hereby given that three public meetings as provided for by Section 204 of the Federal Land Policy and Management Act of 1976, 43 U.S.C. 1714, (2000) will be held at the dates and times specified above.

All persons who wish to submit comments in connection with the proposed withdrawal may present their views in writing at the public meeting or to the Idaho State Director of the Bureau of Land Management at the address above within 30 days after the public meetings. A complete legal description is available from the Idaho State Office at the address shown above or at the Caribou-Targhee National Forest office, 1405 Hollipark Drive, Idaho Falls, Idaho 83401. Public scoping, as part of the environmental analysis process required by the National Environmental Policy Act of 1969, will be conducted concurrently at the meetings.

The withdrawal will continue to be processed in accordance with the regulations set forth in 43 CFR 2310.4.

Jimmie Buxton,
Branch Chief for Lands and Minerals.

[FR Doc. 04-5096 Filed 3-5-04; 8:45 am]

BILLING CODE 4310-66-P